DEPARTMENT OF JUSTICE

Office of Justice Programs

[OMB Number 1121-0235]

Agency Information Collection Activities; Proposed Collection; Comments Requested: Bureau of Justice Assistance Application Form: Bulletproof Vest Partnership (BVP) Extension of Currently Approved Collection

ACTION: 30-Day notice.

The Department of Justice, Office of Justice Programs, Bureau of Justice Assistance, will be submitting the following information collection request for review and clearance in accordance with the Paperwork Reduction Act of 1995. This proposed information collection is published to obtain comments from the public and affected agencies. This proposed information was previously published in the Federal Register Volume 78, Number 87 page 26396, on May 6, 2013, allowing for a 60-day comment period.

The purpose of this notice is to allow for an additional 30 days for public comment until August 8, 2013. This process is conducted in accordance with 5 CFR 1320.10.

If you have additional comments, suggestions, or need a copy of the proposed information collection instrument with instructions or additional information, please contact C. Casto at 1-202-353-7193, Bureau of Justice Assistance, Office of Justice Programs, U. S. Department of Justice, 810 7th Street NW., Washington, DC, 20531 or by email at Chris.Casto@usdoj.gov. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

(1) Type of information collection: Extension of currently approved collection.

(2) The title of the form/collection: Bulletproof Vest Partnership Application.

(3) The agency form number, if any, and the applicable component of the Departmentsponsoring the collection: None. Bureau of Justice Assistance, Office of Justice Programs, United States Department of Justice.

(4) Affected public who will be asked or required to respond, as well as a brief abstract: Primary: Jurisdictions and law enforcement agencies with armor vest needs.

Abstract: The Bulletproof Vest Partnership (BVP), created by the Bulletproof Vest Partnership Grant Act of 1998, is a unique U.S. Department of Justice initiative designed to provide a critical resource to state, tribal and local law enforcement agencies. The purpose of this program is to help protect the lives of law enforcement officers by helping states and units of local and tribal governments equip their officers with armor bulletproof vests. The collection of information is necessary to verify the eligibility of an applicant's jurisdiction for partial reimbursement of costs (up to 50%) associated with the purchase of the armored bulletproof vests. The data provided in the application will determine the need and funding level and provide bank account information for electronic payments. This program is administered in accordance with BULLETPROOF VEST PARTNERSHIP GRANT ACT OF 1998, Public Law 105-181, 42 USC 3796ll.

Others: None.

(5) An estimate of the total number of respondents and the amount of time needed for an average respondent to respond is as follows: It is estimated that no more than 4,500 respondents will apply each year. Each application takes approximately 1 hour to complete.

(6) An estimate of the total public burden (in hours) associated with the collection is 4,500 hours. Total Annual Reporting Burden: 4,500 × 1 hour per application = 4,500 hours.

If additional information is required, please contact, Jerri Murray, Department Clearance Officer, United States Department of Justice, Justice Management Division, Policy and Planning Staff, Two Constitution Square, 145 N Street NE., Room 3W-1407B, Washington, DC, 20530.

Dated: July 3, 2013.
Jerri Murray,
Justice Management Division, United States Department of Justice.

[FR Doc. 2013-16410 Filed 7-8-13; 8:45 am]

BILLING CODE 4410-18-P